DEPARTMENT OF THE INTERIOR

National Park Service

[NPS-WASO-NRSS-0906-8363; 2380-OCR2-NWZ]

Agency Information Collection Activities: Proposed New Collection—Social Science Assessment and Geographic Analysis of Marine Recreational Uses and Visitor Attitudes at Dry Tortugas National Park and Biscayne National Park

AGENCY: Department of the Interior, National Park Service.

ACTION: Notice and request for comments.

SUMMARY: To comply with the Paperwork Reduction Act of 1995 (PRA), we are notifying the public that we have submitted to the Office of Management and Budget (OMB) an information collection request (ICR) for a proposed new collection. This notice provides the public and other Federal agencies an opportunity to comment on the paperwork burden of this collection. To comply with the Paperwork Reduction Act of 1995 and as a part of our continuing efforts to reduce paperwork and respondent burden, we invite the general public and other Federal agencies to comment on this IC. We may not conduct or sponsor and a person is not required to respond to a collection unless it displays a currently valid OMB control number.

DATES: To ensure that your comments on this ICR are considered, please submit them on or before October 17, 2011.

ADDRESSES: Please submit written comments on this information collection directly to the Office of Management and Budget (OMB) Office of Information and Regulatory Affairs, Attention: Desk Officer for the Department of the Interior via e-mail to OIRA_DOCKET@omb.eop.gov or fax at 202-395-5806; and identify your submission as 1024-DRTO/BISC. Please also send a copy your comments to Phadrea Ponds, Information Collections Coordinator, National Park Service, 1201 Oakridge Drive, Fort Collins, CO 80525 (mail); or phadrea_ponds@nps.gov (e-mail).

FOR FURTHER INFORMATION CONTACT: David K. Loomis, Ph.D. Institute for Coastal Science and Policy, Mail Stop 250, Flanagan, East Carolina University, Greenville, NC 27858-4353, or at loomisd@ecu.edu (e-mail). To see a copy of the entire ICR submitted to OMB, go to http://www.reginfo.gov (Information Collection Review, currently under review).

SUPPLEMENTARY INFORMATION: OMB Control Number: 1024-NEW.

Title: Social Science Assessment and Geographic Analysis of Marine Recreational Uses and Visitor Attitudes at Dry Tortugas National Park and Biscayne National Park.

Type of Request: This is a new collection.

Affected Public: Visitors (18 years and older) to Biscayne or Dry Tortugas National Parks.

Respondent Obligation: Voluntary.

Frequency of Collection: One-time.

Estimated Number of Annual Responses: 7,866.

Annual Burden Hours: 952 hours.

Estimated Reporting and Recordkeeping “Non-Hour Cost” Burden: None.

Abstract: The National Park Service (NPS) Act of 1916, 38 Stat 535, 16 USC 1, et seq., requires that the NPS preserve national parks for the use and enjoyment of present and future generations. The National Park Service is developing a visitor-focused program to reduce recreational impacts on marine resource at Dry Tortugas National Park (DRTO) and Biscayne National Park (BISC). The program management at these ocean units aims to remove and mitigate degradation of ocean resources by enabling visitors to avoid boat grounding, anchor damage, fishing violations, wildlife disturbance, invasive species introduction, pollution and other impacts from boating, fishing, scuba diving, snorkeling and kayaking. The proposed information collection will use a series of surveys to understand visitor attitudes, perceptions and beliefs concerning marine resources and provide a geospatial assessment of geographic locations of visitor uses at DRTO and BISC. The information collected will be used to assess levels and patterns of recreational uses in these parks and develop and evaluate strategic communication plans. This information will support efforts to address marine recreational impacts on sensitive habitats and marine resources, and guide strategies to reduce these impacts through education and outreach, navigational aids, and enhanced compliance with rules and regulations, working closely with the public and marine recreational communities.

Comments: On May 2, 2009, we published a Federal Register notice (74 FR 20973) announcing that we would submit this ICR to OMB for approval and soliciting comments. The comment period closed on July 6, 2009. We received a comment from one individual regarding this notice. This commenter objected to boaters using the area for recreation purposes. However, in our response, we noted that legislation creating this and other parks of the National Park system specifically allows for this and other public uses. The commenter also suggested that a survey about the recreational habits of citizens is unnecessary. While the survey mentioned by the commenter may be useful for tracking national recreational trends, information about appropriate use levels for specific indicators of quality at Biscayne National Park can only be obtained from the proposed survey.

We again invite comments concerning this ICR on: (a) Whether the proposed collection of information is necessary for the agency to perform its duties, including whether the information is useful; (b) the accuracy of the agency's estimate of the burden of the proposed collection of information; (c) ways to enhance the quality, usefulness, and clarity of the information to be collected; and (d) ways to minimize the burden on the respondents, including the use of automated collection techniques or other forms of information technology.

Please note that the comments submitted in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: September 13, 2011.
Robert M. Gordon,
Information Collection Clearance Officer, National Park Service.

[FR Doc. 2011-23848 Filed 9-15-11; 8:45 am]

BILLING CODE 4312-52-P